DEPARTMENT OF THE INTERIOR

National Park Service

[NPS-WASO-CRHPF-0511-7554; 2256-672]

Information Collection Request Sent to the Office of Management and Budget (OMB) for Approval; Procedures for State, Tribal, and Local Government Historic Preservation Programs

AGENCY: National Park Service, Interior.

ACTION: Notice; request for comments.

SUMMARY: We (National Park Service, NPS) have sent an Information Collection Request (ICR) to OMB for review and approval. We summarize the ICR below and describe the nature of the collection and the estimated burden and cost. This ICR is scheduled to expire on May 31, 2011. We may not conduct or sponsor and a person is not required to respond to a collection of information unless it displays a currently valid OMB control number. However, under OMB regulations, we may continue to conduct or sponsor this information collection while it is pending at OMB.

DATES: You must submit comments on or before June 30, 2011.

ADDRESSES: Send your comments and suggestions on this information collection to the Desk Officer for the Department of the Interior at OMB-OIRA at (202) 395-5806 (fax) or OIRA_docket@omb.eop.gov (e-mail). Please send a copy of your comments to John W. Renaud, Project Coordinator, Historic Preservation Grants, Heritage Assistance Programs, NPS, 1849 C St., NW. (2256), Washington, DC 20240; or via fax at (202) 371-1961; or via e-mail at John_Renaud@nps.gov. Please also provide a copy of your comments to Rob Gordon, Information Collection Clearance Officer, National Park Service, MS 2605, 1201 Eye Street, NW., Washington, DC 20240 (mail), or robert_gordon@nps.gov (e-mail). Please include 1024-0038 in the subject line of your comments.

FOR FURTHER INFORMATION CONTACT: To request additional information about this ICR, contact John Renaud by mail or e-mail (see ADDRESSES) or by telephone at (202) 354-2066. You may review the ICR online at http://www.reginfo.gov. Follow the instructions to review Department of the Interior collections under review by OMB.

SUPPLEMENTARY INFORMATION: OMB Control Number: 1024-0038.

Title: Procedures for State, Tribal, and Local Government Historic Preservation Programs; 36 CFR part 61.

Service Form Number: None.

Type of Request: Extension of a currently approved collection.

Description of Respondents: State, tribal, and local governments.

Respondent's Obligation: Required to obtain or retain a benefit.

Frequency of Collection: Annually or on occasion.

Estimated Number of Respondents: 1,924 (59 States, territories, and the District of Columbia; 100 tribes; and 1,765 certified local governments).

Estimated Annual Nonhour Burden Cost: $340,474, primarily for photocopying, mailing, office supplies, travel expenses, etc.

Activity | Annual number of responses | Completion time per response (hours) | Total annual burden hours
Local Government Certification Application | 55 | 21.40 | 1,177
Certified Local Government Monitoring | 1,765 | 7.00 | 12,355
Certified Local Government Evaluations | 441 | 13.33 | 5,879
Baseline Questionnaire for CLGs | 250 | .59 | 148
Annual Achievements Report for CLGs | 900 | 2.20 | 1,980
State Inventory Maintenance | 26,904 | .46 | 12,376
State Review and Compliance Task Tracking | 25,370 | .17 | 4,313
State Program Review | 14 | 90.00 | 1,260
State Cumulative Products Table | 59 | 7.46 | 440
State Organization Chart and Staffing Summary | 30 | 1.15 | 35
State Anticipated Activities List | 30 | 7.47 | 224
State Project Notification | 30 | 1.37 | 41
State Final Project Report | 30 | 1.03 | 31
State Project/Activity Database Report | 59 | 7.14 | 421
State Sources of Non-Federal Matching Share Report | 52 | 4.28 | 223
State Unexpended Funds Carryover Table and Statement | 59 | .08 | 5
State Significant Preservation Accomplishments Summary | 59 | 2.09 | 123
Annual Achievements Report for States | 25 | 2.22 | 56
Tribal Historic Preservation Office (THPO) Grants Product Summary Page | 100 | 12.00 | 1,200
THPO Unexpected Funds Carryover Statement | 50 | 7.08 | 354
THPO Annual Report | 100 | 17.49 | 1,749
Totals | 56,382 |  | 44,390

Abstract: This set of information collection requirements has an impact on State, tribal, and local governments that wish to participate formally in the National Historic Preservation Partnership (NHPP) Program, and State and tribal governments that wish to apply for Historic Preservation Fund (HPF) grants. The National Historic Preservation Act (16 U.S.C. 470 et seq.), as amended, established these programs. Implementing regulations at 36 CFR part 61 detail the processes for approval of State and tribal programs, the certification of local governments, and the monitoring and evaluation of State and certified local government programs. We developed the information collections associated with 36 CFR part 61 in consultation with State, tribal, and local government partners.

The NPS uses the information to ensure compliance with the National Historic Preservation Act, as amended (16 USC 470 et seq.), as well as governmentwide grant requirements and Department of the Interior regulations at 43 CFR part 12. This information collection also produces performance data that we use to assess program effectiveness.

Comments: On March 25, 2011, we published in the Federal Register (76 FR 16813) a notice of our intent to request that OMB renew approval for this information collection. In that notice, we solicited comments for 60 days, ending on May 24, 2011. We did not receive any comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Rob Gordon,
Information Collection Clearance Officer, National Park Service.

[FR Doc. 2011-13378 Filed 5-27-11; 8:45 am]

BILLING CODE 4310-52-P